FEDERAL RESERVE SYSTEM

Sunshine Act Meeting

Agency Holding the Meeting: Board of Governors of the Federal Reserve System.

Time and Date: 3 p.m., Wednesday, May 2, 2001.

Place: Marriner S. Eccles Federal Reserve Board Building, C Street entrance between 20th and 21st Streets, NW., Washington, DC 20551.

Status: Open.

Matters to be Considered:

Discussion Agenda

1. Proposals regarding sections 23A and 23B of the Federal Reserve Act:

a. Publication for comment of proposed new Regulation W (Transactions between Banks and their Affiliates) to simplify compliance with sections 23A and 23B and to implement provisions of the Gramm-Leach-Bliley Act;

b. Proposed interim final rule under the Board's Miscellaneous Interpretations regarding the application of sections 23A and 23B to derivative transactions with affiliates and intraday extensions of credit to affiliates and to implement provisions of the Gramm-Leach-Bliley Act; and

c. Proposed final rule granting certain exemptions from section 23A. (Proposed earlier for public comment; Docket Numbers R-1015 and R-1016).

2. Any items carried forward from a previously announced meeting.

Note: This meeting will be recorded for the benefit of those unable to attend. Cassettes will be available for listening in the Board's Freedom of Information Office, and copies may be ordered for $6 per cassette by calling 202-452-3684 or by writing to: Freedom of Information Office, Board of Governors of the Federal Reserve System Washington, DC 20551.

Contact Person for More Information: Michelle A. Smith, Assistant to the Board; 202-452-3204.

Supplementary Information: You may call 202-452-3206 for a recorded announcement of this meeting; or you may contact the Board's Web site at http://www.federalreserve.gov for an electronic announcement. (The Web site also includes procedural and other information about the open meeting.)

Dated: April 25, 2001.
Robert deV. Frierson,
Associate Secretary of the Board.

[FR Doc. 01-10755 Filed 4-25-01; 4:58 pm]

BILLING CODE 6210-01-P